DEPARTMENT OF HEALTH AND HUMAN SERVICES

Centers for Disease Control and Prevention

[30 Day-14-0879]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

Surveys of State, Tribal, Local, and Territorial (STLT) Governmental Agencies (OMB Control No. 0920-0879, Exp. 3/31/2014)—Revision—Office of the Director, Office for State, Tribal Local and Territorial Support (OSTLTS), Centers for Disease Control and Prevention (CDC).

Background and Brief Description

CDC's mission is to create the expertise, information, and tools that people and communities need to protect their health—through health promotion, prevention of disease, injury and disability, and preparedness for new health threats. CDC seeks to accomplish its mission by collaborating with partners throughout the nation and the world to: monitor health, detect and investigate health problems, conduct research to enhance prevention, develop and advocate sound public health policies, implement prevention strategies, promote healthy behaviors, foster safe and healthful environments, and provide leadership and training.

CDC is requesting a three-year approval for a generic clearance to collect information related to domestic public health issues and services that affect and/or involve state, tribal, local and territorial (STLT) government entities. The respondent universe is comprised of STLT governmental staff or delegates acting on behalf of a STLT agency involved in the provision of essential public health services in the United States. The STLT agency is represented by state, tribal, local or territorial governmental entity or delegate with a task to protect and/or improve the public's health.

Information will be used to assess situational awareness of current public health emergencies; make decisions that affect planning, response and recovery activities of subsequent emergencies; fill CDC gaps in knowledge of programs and/or STLT governments that will strengthen surveillance, epidemiology, and laboratory science; improve CDC's support and technical assistance to states and communities. CDC will conduct brief data collections, across a range of public health topics related to essential public health services, using standard modes of administration (e.g., online, telephone, in-person, focus groups).

CDC estimates up to 30 data collections with State, territorial or tribal governmental staff or delegates, and 10 data collections with local/county/city governmental staff or delegate will be conducted on an annual basis. Ninety-five percent of these data collections will be web-based. The total annualized burden of 54,000 hours is based on the following estimates.

Estimated Annualized Burden Hours
Type of respondent | Number of respondents | Number of responses per respondent | Average burden per respondent (in hours)
State, Territorial, or Tribal government staff | 800 | 30 | 1
Local/County/City government staff | 3,000 | 10 | 1

LeRoy Richardson,
Chief, Information Collection Review Office, Office of Scientific Integrity, Office of the Associate Director for Science, Office of the Director, Centers for Disease Control and Prevention.

[FR Doc. 2014-04029 Filed 2-24-14; 8:45 am]

BILLING CODE 4163-18-P